DEPARTMENT OF HEALTH AND HUMAN SERVICES

Administration for Children and Families

Statement of Organization, Functions, and Delegations of Authority

Notice is hereby given that I have delegated to the Director, Program Operations Division, Office of Head Start, Administration for Children and Families the following authority vested in me by the Assistant Secretary for Children and Families in the memorandum dated February 16, 2007.

(a) Authority Delegated

Authority to approve or disapprove requests for non-Federal share waivers under 42 USC 9835(b) for expenditures funded by the American Recovery & Reinvestment Act of 2009, Public Law 111-5 (February 17, 2009)

(b) Limitations

1. This delegation shall be exercised under financial and administrative requirements applicable to all Administration for Children and Families authorities.

2. Any delegation requires the concurrence of the Deputy Assistant Secretary, Office of Administration and the Director, Office of Head Start.

(c) Effective Date

This delegation is effective on the date of signature.

(d) Effect on Existing Delegations

This delegation of authority supplements the previous delegations from the Director, Office of Head Start in the memorandum dated April 26, 2007.

I hereby affirm and ratify any actions taken by the Director, Program Operations Division, which involved the exercise of this authority prior to the effective date of this delegation.

Dated: August 27, 2009.
Patricia E. Brown,
Acting Director, Office of Head Start.

[FR Doc. E9-23291 Filed 9-25-09; 8:45 am]

BILLING CODE 4184-01-P